FOREIGN CLAIMS SETTLEMENT COMMISSION

[F.C.S.C. Meeting and Hearing Notice No. 08-15]

Sunshine Act Meeting

Foreign Claims Settlement Commission, U.S. Department of Justice, Washington, DC 20579.

The Foreign Claims Settlement Commission, pursuant to its regulations (45 CFR part 503.25) and the Government in the Sunshine Act (5 U.S.C. 552b), hereby gives notice in regard to the scheduling of open meetings as follows:

Thursday, September 17, 2015:

10 a.m.—Oral hearings on Objection to Commission's Proposed Decisions in Claim Nos. LIB-III-021 and LIB-III-030.

11:45 a.m.—Issuance of Proposed Decisions in claims against Libya.

Status: Open.

All meetings are held at the Foreign Claims Settlement Commission, 600 E Street NW., Washington, DC. Requests for information, or advance notices of intention to observe an open meeting, may be directed to: Patricia M. Hall, Foreign Claims Settlement Commission, 600 E Street NW., Suite 6002, Washington, DC 20579. Telephone: (202) 616-6975.

Brian M. Simkin,
Chief Counsel.

[FR Doc. 2015-22923 Filed 9-8-15; 4:15 pm]

BILLING CODE 4410-BA-P